ENVIRONMENTAL PROTECTION AGENCY

[EPA-HQ-OAR-2004-0450; FRL-9165-9]

Agency Information Collection Activities; Submission to OMB for Review and Approval; Comment Request; Aerospace Manufacturing and Rework Industry Information Request Questionnaire; EPA ICR Number 2395.01, OMB Control Number 2060-NEW

AGENCY: Environmental Protection Agency (EPA).

ACTION: Notice.

SUMMARY: In compliance with the Paperwork Reduction Act (44 U.S.C. 3501 et seq.), this document announces that EPA is planning to submit a request for a new Information Collection Request to the Office of Management and Budget. Before submitting the Information Collection Request to the Office of Management and Budget for review and approval, EPA is soliciting comments on specific aspects of the proposed information collection as described below.

DATES: Additional comments may be submitted on or before July 22, 2010.

ADDRESSES: Submit your comments, referencing Docket ID No. EPA-HQ-OAR-2004-0450 by one of the following methods:

• Federal eRulemaking Portal: http://www.regulations.gov. Follow the on-line instructions for submitting comments.

• a-and-r-docket@epa.gov.

• Fax: (202) 566-1741.

• Mail: U.S. Environmental Protection Agency, EPA Docket Center (EPA/DC), Air and Radiation Docket Information Center, 1200 Pennsylvania Avenue, NW., Mail Code: 6102T, Washington, DC 20460.

• Hand Delivery: To send comments or documents through a courier service, the address to use is: EPA Docket Center, Public Reading Room, EPA West, Room 334, 1301 Constitution Avenue, NW., Washington, DC 20004. Such deliveries are accepted only during the Docket's normal hours of operation—8:30 a.m. to 4:30 p.m., Monday through Friday. Special arrangements should be made for deliveries of boxed information.

Instructions: Direct your comments to Electronic Docket ID No. EPA-HQ-OAR-2004-0450. EPA's policy is that all comments received will be included in the public docket without change and may be made available on-line at http://www.regulations.gov including any personal information provided, unless the comment includes information claimed to be Confidential Business Information (CBI) or other information whose disclosure is restricted by statute. Do not submit information that you consider to be CBI or otherwise to be protected through http://www.regulations.gov or e-mail. The Web site is an “anonymous access” system, which means we will not know your identity or contact information unless you provide it in the body of your comment. If you send an e-mail comment directly to us without going through http://www.regulations.gov, your e-mail address will be automatically captured and included as part of the comment that is placed in the public docket and made available on the Internet. If you submit an electronic comment, we recommend that you include your name and other contact information in the body of your comment and with any disk or CD-ROM you submit. If we cannot read your comment as a result of technical difficulties and cannot contact you for clarification, we may not be able to consider your comment. Electronic files should avoid the use of special characters or any form of encryption and be free of any defects or viruses. For additional information about EPA public docket, visit the EPA Docket Center homepage at http://www.epa.gov/epahome/dockets.htm.

FOR FURTHER INFORMATION CONTACT: Kim Teal, Office of Air and Radiation, Office of Air Quality Planning and Standards, Mail Code E143-03, Research Triangle Park, North Carolina 27711; telephone number: (919) 541-5580; fax number: (919) 541-3470; e-mail address: teal.kim@epa.gov.

SUPPLEMENTARY INFORMATION:

How can I access the docket and/or submit comments?

EPA has established a public docket for this Information Collection Request (ICR) under Docket ID No. EPA-HQ-OAR-2004-0450 which is available either electronically at http://www.regulations.gov or in hard copy at the EPA Docket Center, Public Reading Room, EPA West, Room 334, 1301 Constitution Avenue, NW., Washington, DC 20004. The normal business hours are 8:30 a.m. to 4:30 p.m., Monday through Friday, excluding Federal holidays. The telephone number for the Reading Room is 202-566-1744 and the telephone number for the Air and Radiation Docket is 202-566-1742.

Use http://www.regulations.gov to obtain a copy of the draft collection of information, submit or view public comments, access the index listing of the contents of the docket and to access those documents in the public docket that are available electronically. Once in the system, select “search,” then key in the docket ID number identified in this document.

What information particularly interests EPA?

Pursuant to section 3506(c)(2)(A) of the Paperwork Reduction Act (PRA), EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility and clarity of the information to be collected; and

(iv) Minimize the burden of the collection of information on those who are to respond, including through the use of appropriate automated electronic, mechanical or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

To what information collection activity or ICR does this apply?

Docket ID No. EPA-HQ-OAR-2004-0450.

Affected Entities: Entities potentially affected by this action are owners or operators of existing aerospace manufacturing and rework facilities. The North American Industrial Classification Codes (NAICS) associated with this industry are presented in the following table:

NAICS Code | Description
336411 | Aircraft Manufacturing.
336412 | Aircraft Engine and Engine Parts Manufacturing.
336413 | Other Aircraft Parts and Auxiliary Equipment Manufacturing.
336414 | Guided Missile and Space Vehicle Manufacturing.
336415 | Guided Missile and Space Vehicle Propulsion Units and Propulsion Units Parts Manufacturing.
336419 | Other Guided Missile and Space Vehicle Parts and Auxiliary Equipment Manufacturing.
481111 | Scheduled Passenger Air Transportation.
481112 | Scheduled Freight Air Transportation.
481211 | Nonscheduled Chartered Passenger Air Transportation.
481212 | Nonscheduled Chartered Freight Air Transportation.
481219 | Other Nonscheduled Air Transportation.

ICR Number: EPA ICR Number 2395.01, OMB Control Number 2060-NEW.

ICR Status: This ICR is for a new information collection activity. An Agency may not conduct or sponsor, and a person is not required to respond to, a collection of information, unless it displays a currently valid Office of Management and Budget (OMB) control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers in certain EPA regulations is consolidated in 40 CFR part 9.

Abstract: This ICR was developed specifically for aerospace manufacturing and rework facilities and has been tailored to the processes at aerospace facilities. Respondents may use an electronic submission approach that will be less burdensome for both the facilities that must respond and for EPA personnel who must compile the responses. Respondents are asked to complete simple forms from available information and no request is made to create or develop emission estimates from information in the literature.

Information is requested from approximately 1,000 aerospace manufacturing and rework facilities on general facility information, coatings and spray booth information, other process information (e.g., storage tanks, composite processing, etc.), emission control devices used at the facilities and their basic design and operating features, quantity of air emissions, pollution prevention programs at each facility, and information regarding startup and shutdown events. This information is necessary for EPA to adequately characterize residual risk at these facilities, to characterize emissions and control measures for operations not currently regulated, and to develop standards for new and existing aerospace facilities under section 112 of the Clean Air Act (CAA), if appropriate. The information will be collected from the electronic completion of simple forms, which will be compiled to develop a computer data base.

The EPA is charged under section 112 of the CAA with developing national emission standards for 189 listed hazardous air pollutants (HAP). The Aerospace Manufacturing and Rework Facilities Maximum Achievable Control Technology (Aerospace MACT) standard (40 CFR 63, subpart GG), is a National Emission Standard for Hazardous Air Pollutants (NESHAP) developed under the authority of section 112(d) of the CAA. EPA is required to review each MACT standard and to revise them “as necessary (taking into account developments in practices, processes and control technologies)” no less frequently than every eight years. These reviews are commonly referred to as “technology reviews.” In addition, EPA is required to assess the risk remaining (residual risk) after each MACT standard and promulgate more stringent standards if they are necessary to protect public health. Under EPA's residual risk and technology review (RTR) program, EPA is addressing these two requirements concurrently. EPA is updating the information they currently possess and filling identified data gaps in that information in order to provide a thorough basis for the RTR efforts. The data collection effort will gather additional information to allow comprehensive and technically sound analyses that will form the basis for future rulemaking decisions. Responses to the ICR are mandatory under the authority of section 114 of the CAA.

Burden Statement: The one-time public reporting burden for this collection of information is estimated to average 30.75 hours for a small facility, 86.75 hours for a medium sized facility and 142.75 hours for a large sized facility per response. Burden means the total time, effort or financial resources expended by persons to generate, maintain, retain or disclose or provide information to or for a Federal agency. This includes the time needed to review instructions; develop, acquire, install and utilize technology and systems for the purposes of collecting, validating and verifying information, processing and maintaining information and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here. Approximately 1,000 facilities are expected to respond to this ICR. Responses are required one time only; this is not a continuing collection. The total estimated public burden is 29,704 hours and $1,430,543. By facility, the burden is estimated to be $1,703 for a small sized facility, $4,804 for a medium sized facility and $7,906 for a large sized facility. These burden estimates are based on labor costs for technical, managerial and clerical staff. No capital or operation and maintenance costs are involved for responding to this ICR.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: June 11, 2010.
Steve Fruh,
Acting Director, Sector Policies and Programs Division.

[FR Doc. 2010-15060 Filed 6-21-10; 8:45 am]

BILLING CODE 6560-50-P